DEPARTMENT OF AGRICULTURE

Submission for OMB Review; Comment Request

The Department of Agriculture has submitted the following information collection requirement(s) to OMB for review and clearance under the Paperwork Reduction Act of 1995, Public Law 104-13. Comments are requested regarding; whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by January 22, 2024 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food and Nutrition Service

Title: How Have SNAP State Agencies Shifted Operations in the Aftermath of COVID-19? Study.

OMB Control Number: 0584-NEW.

Summary of Collection: As the cornerstone of the nation's nutrition safety net, the Supplemental Nutrition Assistance Program (SNAP) provides monthly benefits to households with low incomes to reduce food insecurity and improve health and well-being. The COVID-19 pandemic and its economic fallout created extraordinary challenges for SNAP and the broader safety net as whole. To keep processing applications and issuing benefits, SNAP agencies had to pivot sharply to adapt their core operations and deliver services primarily or entirely virtually. Drawing on both new and existing waivers and policy options in this uncharted environment required a host of complicated decisions and choices on the part of State SNAP agencies. The study titled “How Have SNAP State Agencies Shifted Operations in the Aftermath of COVID-19? (SNAP COVID study)” will provide the U.S. Department of Agriculture (USDA) Food and Nutrition Service (FNS) with a comprehensive picture of how State SNAP agencies responded to the pandemic, including their decision-making processes, experiences with program changes in the short and long terms, and how these experiences have prepared States for major disruptions in the future.

The SNAP COVID study will provide information about State SNAP agencies' experiences with the wide range and mix of operational changes made in response to the evolving pandemic. This gives FNS and State SNAP agencies an important opportunity to assess what did and did not work and why; to describe the decision-making processes that led to States' responses to date and their plans for the period after the public health emergency; to identify changes that are here to stay for the foreseeable future; and to consider the lessons learned to inform continued program improvement and increase preparedness for any future disruptions that affect service delivery.

Need and Use of the Information: The SNAP COVID study will provide information about State SNAP agencies' experiences with the wide range and mix of operational changes made in response to the evolving pandemic. This gives FNS and State SNAP agencies an important opportunity to assess what did and did not work and why; to describe the decision-making processes that led to States' responses to date and their plans for the period after the public health emergency; to identify changes that are here to stay for the foreseeable future; and to consider the lessons learned to inform continued program improvement and increase preparedness for any future disruptions that affect service delivery.

Description of Respondents: State, Local and Tribal Governments.

Number of Respondents: 288.

Frequency of Responses: Reporting: Once.

Total Burden Hours: 389.

Ruth Brown,
Departmental Information Collection Clearance Officer.

[FR Doc. 2023-28171 Filed 12-21-23; 8:45 am]

BILLING CODE 3410-30-P